DEPARTMENT OF COMMERCE

National Oceanic and Atmospheric Administration

[I.D. 051203B]

Marine Mammals; File No. 1004-1656

AGENCY: National Marine Fisheries Service (NMFS), National Oceanic and Atmospheric Administration (NOAA), Commerce.

ACTION: Issuance of permit amendment.

SUMMARY: Notice is hereby given that Funtime, Inc. d/b/a Six Flags Worlds of Adventure, 1060 North Aurora Road, Aurora, OH 44202, has been issued an amendment to public display Permit No. 1004-1656-00 to extend the expiration date through May 16, 2004.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

FOR FURTHER INFORMATION CONTACT: Jennifer Skidmore or Amy Sloan, (301)713-2289.

SUPPLEMENTARY INFORMATION: On May 22, 2002, notice was published in the Federal Register (67 FR 35965) that Permit No. 1004-1656-00 had been issued to Funtime, Inc. d/b/a Six Flags Worlds of Adventure to import two killer whales, one adult female from Marineland S.A., Antibes, France and one adult male from Mundo Marino, Buenos Aires, Argentina, for the purposes of public display. This permit amendment extends the duration of the permit from May 16, 2003, to May 16, 2004. The requested permit amendment has been issued under the authority of the Marine Mammal Protection Act of 1972, as amended (16 U.S.C. 1361 et seq.), and the Regulations Governing the Taking and Importing of Marine Mammals (50 CFR part 216).

Dated: May 13, 2003.
Stephen L. Leathery,
Chief, Permits, Conservation and Education Division, Office of Protected Resources, National Marine Fisheries Service.

[FR Doc. 03-12649 Filed 5-19-03; 8:45 am]

BILLING CODE 3510-22-S